DEPARTMENT OF THE TREASURY

Office of Foreign Assets Control

[Docket No.: OFAC-2025-0001

Agency Information Collection Activities; Proposed Collection; Comment Request; Office of Foreign Assets Control Reporting, Procedures and Penalties Regulations Sanctions Reconsideration Portal

AGENCY: Office of Foreign Assets Control, Treasury.

ACTION: Notice and request for comments.

SUMMARY: The Department of the Treasury, as part of its continuing effort to reduce paperwork and respondent burden, invites the general public and other Federal agencies to comment on a proposed information collection, as required by the Paperwork Reduction Act of 1995. Currently, the Office of Foreign Assets Control (OFAC) within the Department of the Treasury is soliciting comments concerning a proposal to add an electronic Sanctions Reconsideration Portal information collection within OFAC's Reporting, Procedures and Penalties Regulations.

DATES: Written comments must be received by August 25, 2025 to be assured of consideration.

ADDRESSES: Comments must be submitted in one of the following two ways (please choose only one of the ways listed):

• Electronically at https://www.regulations.gov. Follow the “Submit a comment” instructions.

• You may email comments to the following address: OFACreport@treasury.gov with “Attn: Request for Comments on Sanctions Reconsideration Portal (Reporting, Procedures and Penalties Regulations)”. Comments must be received by the close of the comment period.

Do not include any personally identifiable information (such as name, address, or other contact information) or confidential business information that you do not want publicly disclosed. All comments are public records; they are publicly displayed exactly as received, and will not be deleted, modified, or redacted. Comments may be submitted anonymously. All submissions received must include the agency name and refer to Docket Number OFAC-2025-0001 and the Office of Management and Budget (OMB) control number 1505-0164.

Follow the search instructions on https://www.regulations.gov to view public comments.

FOR FURTHER INFORMATION CONTACT: OFAC: Assistant Director for Regulatory Affairs, 202-622-4855; or https://ofac.treasury.gov/contact-ofac.

SUPPLEMENTARY INFORMATION:

Title: OFAC Reporting, Procedures and Penalties Regulations Sanctions Reconsideration Portal.

OMB Number: 1505-0164.

Type of Review: Revision of a currently approved collection.

Description: OFAC is seeking to add a new electronic Sanctions Reconsideration Portal information collection contained within § 501.807 of OFAC's Reporting, Procedures and Penalties Regulations (the “Regulations”), which pertains to the operation of the various economic sanctions programs administered by OFAC under 31 CFR chapter V. Section 501.807 sets forth the procedures to be followed by a person seeking administrative reconsideration of the listing of a person or property (e.g., a vessel) on OFAC's Specially Designated Nationals and Blocked Persons List (SDN List) or any other list or identification of sanctioned persons or property maintained by OFAC. OFAC is seeking approval of an electronic Sanctions Reconsideration Portal that would gather specific information from the petitioner and provide a more efficient process for collecting and reviewing applications for reconsideration. Petitioner use of the Sanctions Reconsideration Portal will be voluntary. OFAC is not making any changes to other collections or other forms associated with this control number.

The reports covered by this information collection will be reviewed by the U.S. Department of the Treasury and may be used for sanctions designations, compliance, civil penalty, and enforcement purposes by the agency.

Forms: The proposed Sanctions Reconsideration Portal information collection covered by this notice will contain a list of questions to provide electronically regarding the reasons and supporting information for the petitioner's request for consideration of removal from an OFAC sanctions list.

Affected Public: Persons sanctioned by OFAC and their authorized representatives.

Estimated Number of Respondents: OFAC's estimate for the number of unique reporting respondents is approximately 300 per year based on prior data.

Frequency of Response: The estimated annual frequency of responses is approximately once.

Estimated Total Number of Annual Responses: The estimated total number of responses per year is approximately 300.

Estimated Time Per Response: OFAC assesses that the average time estimate for submitting a reconsideration report will be 3 hours.

Estimated Total Annual Burden Hours: The estimated total annual reporting burden is approximately 900 hours.

Request for Comments

Comments submitted in response to this notice will be summarized and included in the request for OMB approval. All comments will become a matter of public record. Comments are invited on: (a) whether the collection of information is necessary for the proper performance of the functions of the agency, including whether the information has practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services required to provide information.

Authority: 44 U.S.C. 3501 et seq.

Lisa M. Palluconi,
Acting Director, Office of Foreign Assets Control.

[FR Doc. 2025-11496 Filed 6-25-25; 8:45 am]

BILLING CODE 4810-AL-P